DEPARTMENT OF LABOR

Employment and Training Administration

[TA-W-63,285]

Office Furniture Group Shared Services Jasper, IN; Notice of Termination of Investigation

Pursuant to Section 221 of the Trade Act of 1974, as amended, an investigation was initiated on April 30, 2008, in response to a petition filed by a company official on behalf of workers of Office Furniture Group Shared Services, Jasper, Indiana.

The petitioner has requested that the petition be withdrawn. Consequently, the investigation has been terminated.

Signed at Washington, DC, this 22nd day of May 2008.
Linda G. Poole,
Certifying Officer, Division of Trade Adjustment Assistance.

[FR Doc. E8-12325 Filed 6-2-08; 8:45 am]

BILLING CODE 4510-FN-P